DEPARTMENT OF ENERGY

Federal Energy Regulatory Commission

[Project No. 14635-000, Project No. 7155-000]

Village of Gouverneur; Notice of Docket Number for Original License Proceeding

Take notice that the docket number for the original license proceeding for the Gouverneur Hydroelectric Project is P-14635. Several documents regarding this proceeding were filed under P-7155, which is an older and closed proceeding for this site. The docket numbers for these documents were changed in the Commission's eLibrary to the correct docket number, P-14635. All future filings regarding the original license proceeding for the Gouverneur Hydroelectric Project should use docket number P-14635.

For further information, please contact Jody Callihan at (202) 502-8278.

Dated: March 17, 2015.
Kimberly D. Bose,
Secretary.

[FR Doc. 2015-06635 Filed 3-23-15; 8:45 am]

BILLING CODE 6717-01-P